DEPARTMENT OF LABOR

Employment and Training Administration

Notice of Determinations Regarding Eligibility To Apply for Worker Adjustment Assistance

In accordance with Section 223 of the Trade Act of 1974, as amended (19 U.S.C. 2273) the Department of Labor herein presents summaries of determinations regarding eligibility to apply for trade adjustment assistance for workers by (TA-W) number issued during the period of August 10 through August 21, 2009.

In order for an affirmative determination to be made for workers of a primary firm and a certification issued regarding eligibility to apply for worker adjustment assistance, each of the group eligibility requirements of Section 222(a) of the Act must be met.

I. Under Section 222(a)(2)(A), the following must be satisfied:

(1) A significant number or proportion of the workers in such workers' firm have become totally or partially separated, or are threatened to become totally or partially separated;

(2) The sales or production, or both, of such firm have decreased absolutely; and

(3) One of the following must be satisfied:

(A) Imports of articles or services like or directly competitive with articles produced or services supplied by such firm have increased;

(B) Imports of articles like or directly competitive with articles into which one or more component parts produced by such firm are directly incorporated, have increased;

(C) Imports of articles directly incorporating one or more component parts produced outside the United States that are like or directly competitive with imports of articles incorporating one or more component parts produced by such firm have increased;

(D) Imports of articles like or directly competitive with articles which are produced directly using services supplied by such firm, have increased; and

(4) The increase in imports contributed importantly to such workers' separation or threat of separation and to the decline in the sales or production of such firm; or

II. Section 222(a)(2)(B) all of the following must be satisfied:

(1) A significant number or proportion of the workers in such workers' firm have become totally or partially separated, or are threatened to become totally or partially separated;

(2) One of the following must be satisfied:

(A) There has been a shift by the workers' firm to a foreign country in the production of articles or supply of services like or directly competitive with those produced/supplied by the workers' firm;

(B) There has been an acquisition from a foreign country by the workers' firm of articles/services that are like or directly competitive with those produced/supplied by the workers' firm; and

(3) The shift/acquisition contributed importantly to the workers' separation or threat of separation.

In order for an affirmative determination to be made for adversely affected workers in public agencies and a certification issued regarding eligibility to apply for worker adjustment assistance, each of the group eligibility requirements of Section 222(b) of the Act must be met.

(1) A significant number or proportion of the workers in the public agency have become totally or partially separated, or are threatened to become totally or partially separated;

(2) The public agency has acquired from a foreign country services like or directly competitive with services which are supplied by such agency; and

(3) The acquisition of services contributed importantly to such workers' separation or threat of separation.

In order for an affirmative determination to be made for adversely affected secondary workers of a firm and a certification issued regarding eligibility to apply for worker adjustment assistance, each of the group eligibility requirements of Section 222(c) of the Act must be met.

(1) A significant number or proportion of the workers in the workers' firm have become totally or partially separated, or are threatened to become totally or partially separated;

(2) The workers' firm is a Supplier or Downstream Producer to a firm that employed a group of workers who received a certification of eligibility under Section 222(a) of the Act, and such supply or production is related to the article or service that was the basis for such certification; and

(3) Either—

(A) The workers' firm is a supplier and the component parts it supplied to the firm described in paragraph (2) accounted for at least 20 percent of the production or sales of the workers' firm; or

(B) A loss of business by the workers' firm with the firm described in paragraph (2) contributed importantly to the workers' separation or threat of separation.

In order for an affirmative determination to be made for adversely affected workers in firms identified by the International Trade Commission and a certification issued regarding eligibility to apply for worker adjustment assistance, each of the group eligibility requirements of Section 222(f) of the Act must be met.

(1) The workers' firm is publicly identified by name by the International Trade Commission as a member of a domestic industry in an investigation resulting in—

(A) An affirmative determination of serious injury or threat thereof under section 202(b)(1);

(B) An affirmative determination of market disruption or threat thereof under section 421(b)(1); or

(C) An affirmative final determination of material injury or threat thereof under section 705(b)(1)(A) or 735(b)(1)(A) of the Tariff Act of 1930 (19 U.S.C. 1671d(b)(1)(A) and 1673d(b)(1)(A));

(2) The petition is filed during the 1-year period beginning on the date on which—

(A) A summary of the report submitted to the President by the International Trade Commission under section 202(f)(1) with respect to the affirmative determination described in paragraph (1)(A) is published in the Federal Register under section 202(f)(3); or

(B) Notice of an affirmative determination described in subparagraph (1) is published in the Federal Register; and

(3) The workers have become totally or partially separated from the workers' firm within—

(A) The 1-year period described in paragraph (2); or

(B) Notwithstanding section 223(b)(1), the 1-year period preceding the 1-year period described in paragraph (2).

Affirmative Determinations for Worker Adjustment Assistance

The following certifications have been issued. The date following the company name and location of each determination references the impact date for all workers of such determination.

The following certifications have been issued. The requirements of Section 222(a)(2)(A) (increased imports) of the Trade Act have been met.

TA-W-70,187; Saint-Gobain Containers, Inc., On-Site Leased Workers From Kelly Services, Waxahachie, TX. May 19, 2008.

TA-W-70,234; Hampton Lumber Mills—Washington, Inc., Darrington Lumber Mill Division, Darrington, WA. May 18, 2008.

TA-W-70,272; Mercedes-Benz United States International, Inc., On-Site Leased Workers From Talent Tree, Vance, AL. May 18, 2008.

TA-W-70,636; CTH Sherrill Occasional, People Connection, Inc., Hickory, NC. May 25, 2008.

TA-W-70,931; Castec, Inc., North Hollywood, CA. May 18, 2008.

TA-W-71,004; Radisys Corporation, On-Site Leased Workers From Employment Trends, Hillsboro, OR. June 1, 2008.

TA-W-70,024; Newpage Corporation, A Subsidiary of Cerberus Capital, Manpower, Rumford, ME. May 18, 2008.

TA-W-70,050; Tyco Electronics Corp., CIS Division, Leased Workers from Kelly Services, Jonestown, PA. May 18, 2008.

TA-W-70,132; Smead Manufacturing Company, Leased Workers from Westaff, Inc., Logan, OH. July 1, 2008.

TA-W-70,203; Bayloff Stamped Products, Kinsman, OH. May 19, 2008.

TA-W-70,236; Collis, Inc., A Subsidiary of SSW Holding Company, Inc., Clinton, IA. May 18, 2008.

TA-W-70,237; Collis, Inc., A Subsidiary of SSW Holding Company, Inc., Evansville, IN. May 18, 2008.

TA-W-70,240; American Appliance Products, Inc., Nashville Division, SSW Holding Company, Madison, TN. May 18, 2008.

TA-W-70,299; Hunt Forest Products, Inc., Natalbany, LA. May 19, 2008.

TA-W-70,342; Plum Creek Northwest Lumber, Inc., A Subsidiary of Plum Creek Timber Company, Columbia Falls, MT. May 19, 2008.

TA-W-70,357; Transform Automotive LLC, Sterling Heights Division, Sterling Heights, MI. May 19, 2008.

TA-W-70,386; Mazer Corporation, Printing Services Division, On-Leased Workers From Crown Personnel Services, Dayton, OH. May 19, 2008.

TA-W-70,409; Frontier Spinning Mills, Inc., Cheraw, SC. May 18, 2008.

TA-W-70,556; Kimball Office, Leased Workers of Manpower Temporary Services, Borden, IN. May 20, 2008.

TA-W-70,579; Sauer Danfoss US Company, Express Personnel Service, Employment Trends, Madden, Hillsboro, OR. May 21, 2008.

TA-W-70,630; Westminster Beacon LLC, A Subsidiary of Faribault Mills, Westminster, SC. May 19, 2008.

TA-W-71,417; Liberty Manufacturing Company, D/B/A Liberty Molds, Inc., Portage, MI. June 25, 2008.

TA-W-70,285; EDS, An HP Company, A Subsidiary of Hewlett-Packard Com. Leased Workers From Vision IT, Lansing, MI. May 19, 2008.

TA-W-70,286; Ferrell Manufacturing, Inc., Graham, NC. May 19, 2008.

The following certifications have been issued. The requirements of Section 222(a)(2)(B) (shift in production or services) of the Trade Act have been met.

TA-W-70,091; Card Technology Corporation, A Subsidiary of NBS Technologies, Paramus, NJ. May 18, 2008.

TA-W-70,133; Hussmann Gloversville, Climate Control Division, Gloversville, NY. May 18, 2008.

TA-W-70,171; Inergy Automotive Systems, Leased Workers From Manpower of Adrian and Kelly Services, Adrian, MI. May 18, 2008.

TA-W-70,204; Baxter Healthcare Corporation, Renal Division, Leased Workers From Kelly Services and Apex, North Largo, FL. May 18, 2008.

TA-W-70,208; 3M Company, Electronics Solutions Division, On-Site leased Workers Volt Workforce Solution, Columbia, MO. November 23, 2008.

TA-W-70,232; Halliburton Company, Duncan Mfg. Leased Workers From Express Personnel, Clayton Personnel Service, Duncan, OK. May 19, 2008.

TA-W-70,246; Integrated Manufacturing Technologies, Inc., Elgin, TX. December 2, 2008.

TA-W-70,317; SMTC Corporation of Massachusetts, SMTC Enclosures Div. Placement PRO's, Aerotek etc., Franklin, MA. May 18, 2008.

TA-W-70,325; Tyco Electronics Corporation, Communication and Industrial Solutions, Emigsville, PA. May 18, 2008.

TA-W-70,440; Harris Products Group, Subsidiary of Lincoln Electric -, Account Temps Trak Staf, Flex, Mason, OH. May 18, 2008.

TA-W-70,468; Bristol, Inc., D/B/A Remote Automation Solutions, Emerson, Printed Circuit Board, Watertown, CT. May 20, 2008.

TA-W-70,521; TB Wood's, Inc., A Subsidiary of Altra Industrial Motion, Mt Pleasant, MI. May 21, 2008.

TA-W-70,544; Essilor Laboratories of America, Joe's Creek Processing Center, St. Petersburg, FL. May 20, 2009.

TA-W-70,561A; Spang & Company, Magnetics Division, Pittsburgh, PA. August 31, 2009.

TA-W-70,561; Spang & Company, Magnetics Division, East Butler, PA. August 31, 2009.

TA-W-70,608; Meritor Heavy Vehicle Systems, LLC, CVS Div., Pinnacle Staffing, Inc., Arden, NC. May 19, 2008.

TA-W-70,628; Ingersoll Rand, Industrial Technologies Sector, Davidson Operation Leased Workers from Adecco, Davidson, NC. May 19, 2008.

TA-W-70,635; In-Zone Athletic Wear, Fyffe, AL. May 2, 2008.

TA-W-70,668; Cypress Semiconductor, Leased Workers From Manpower of Doherty Career Solutions and Cambridge, Boise, ID. May 27, 2008.

TA-W-70,756; Polyvision, Inc., Reno, NV. May 11, 2008.

TA-W-70,805; Honeywell International, Aerospace Avionics, Manpower, Phoenix, AZ. May 18, 2008.

TA-W-70,806; Honeywell International, ISC Engines, Manpower, Phoenix, AZ. May 18, 2008.

TA-W-70,833; Thomasville Furniture Industries, Winston- Salem NC Satellite Warehouse, Winston Salem, NC. May 29, 2008.

TA-W-70,930; Sandvik Materials Technology, Spring Production Unit, Clarks Summit, PA. May 26, 2008.

TA-W-70,935; Regal Beloit Manufacturing, On-Site Leased Workers of Penmac Agency, Lebanon, MO. May 28, 2008.

TA-W-71,044A; Weastec, Inc., Greenfield, OH. June 5, 2008.

TA-W-71,044; Weastec Inc., Hillsboro, OH. June 5, 2008.

TA-W-71,056; Stanadyne Corporation, Leased Workers of Infini-Staff and Staffing Now, Windsor, CT. June 4, 2008.

TA-W-71,069; BonaKemi USA, Inc., Monroe Production, Leased Workers of Mar-Key Specialized, Monroe, NC. June 8, 2008.

TA-W-71,203; Datex Ohmeda, Inc., dba General Electric Healthcare, Madison, WI. June 10, 2008.

TA-W-71,217; Republic Special Metals, Inc., Bay City Forge, A Subsidiary of Patriot Morgan, Erie, PA. May 25, 2008.

TA-W-71,484; Ontario Die Company of America, El Paso, TX. June 23, 2008.

TA-W-71,535; Cequent Performance Product, Trailer Div., ABR Employment Serv., Westphal Staff, Mosinee, WI. June 24, 2008.

TA-W-71,747; Qualion Corporation, Minnestor Rubber and Plastics, Watertown, SD. July 20, 2008.

TA-W-71,941A; Employment 2000 Corp., Portola Tech, International, Woonsocket, RI. August 5, 2008.

TA-W-71,941; Portola Tech International, Woonsocket, RI. February 3, 2009.

TA-W-70,183; Sony Technology Center—Pittsburg, Mt. Pleasant, PA. May 18, 2008.

TA-W-70,320; Cannondale Bicycle Corporation, Leased Workers From Ruggieri Enterprises, LLC (dbs Spherion), Bedford, PA. May 18, 2008.

TA-W-70,429; Neocork Technologies, Conover, NC. May 18, 2008.

TA-W-70,231; Bassett Furniture, Leased Workers from Ameristaff Employment & Staffing Sol., Bassett, VA. March 20, 2009.

TA-W-70,253; Fluidmaster Inc., La Vergne, TN. May 18, 2008

TA-W-70,385; Russell Brands, LLC, Spalding Division, On-Site Leased Workers From Johnson and Hill, Springfield, MA. May 19, 2008.

TA-W-70,502; Spectrum Industrial Services, Minneapolis, MN. May 18, 2008.

TA-W-70,554; ASML, Customer Support Division, Boise, ID. May 21, 2008.

TA-W-70,696; Allstate Insurance Company, Quality Assurance & Customer Communication, Northbrook, IL. May 26, 2008.

TA-W-70,786; Vishay Roederstein Electronics, Inc., Statesville, NC. May 20, 2008.

TA-W-70,197; Wallenius Wilhelmsen Logistics, Customer Care, Doc. & Finance Remx Financial, Woodcliff Lake, NJ. May 18, 2009.

The following certifications have been issued. The requirements of Section 222(b) (adversely affected workers in public agencies) of the Trade Act have been met.

None.

The following certifications have been issued. The requirements of Section 222(c) (supplier to a firm whose workers are certified eligible to apply for TAA) of the Trade Act have been met.

TA-W-70,117; Fulghum Fibres, Inc., M&K, Inc., Worksource Staffing, Baileyville, ME. May 18, 2008.

TA-W-70,361; TG Fluid Systems USA Corp., A Division of Toyoda Gosei N.A., Brighton, MI. May 19, 2008.

TA-W-70,388; TimBar Packaging and Display, A Subsidiary of Timber Corporation, Oneida Division, Vernon, NY. May 19, 2008.

TA-W-70,435; ANP Dimensional Lumber, Manpower, Ogema, WI. May 19, 2008.

TA-W-70,527A; Catawissa Lumber and Specialty Co., Inc., Catawissa, PA. May 3, 2009.

TA-W-70,527; Catawissa Lumber and Specialty Co., Inc., Elysburg, PA. May 3, 2009.

TA-W-70,550; Phoenix Trim Works, Williamsport, PA. May 14, 2008.

TA-W-70,602; Connor Manufacturing Services, Personnel Source, Portland, OR. June 28, 2009.

TA-W-70,728; Excalibur Machine Co., Inc., Subsidiary of Core Manufacturing, Leased Workers From M-Ploy Temporaries, Conneaut Lake, PA. May 20, 2008.

TA-W-70,831; A.W. Pratt, Inc., Glasgow, MT. May 28, 2008.

TA-W-70,847; Intermountain Forest Technology, Corp., DBA Smith Forestry Consulting, Clancy, MT. May 27, 2008.

TA-W-70,858; Excalibur Machine Co., Inc., Subsidiary of Core Manufacturing, Leased Workers From M-Ploy Temporaries, Meadville, PA. May 20, 2008.

TA-W-70,860; Excalibur Machine Company, Inc., Subsidiary of Core Manufacturing, Leased Workers From M-Ploy Temporaries, Linesville, PA. May 20, 2008.

The following certifications have been issued. The requirements of Section 222(c) (downstream producer for a firm whose workers are certified eligible to apply for TAA) of the Trade Act have been met.

None.

The following certifications have been issued. The requirements of Section 222(f) (firms identified by the International Trade Commission) of the Trade Act have been met.

TA-W-70,419; Goodyear Dunlop Tires North America Ltd., EGW, Defendor, Materials Control, US Securities, CHD, Tonawanda, NY. May 19, 2008.

Negative Determinations for Worker Adjustment Assistance

In the following cases, the investigation revealed that the eligibility criteria for worker adjustment assistance have not been met for the reasons specified.

The investigation revealed that the criterion under paragraph (a)(1), or (b)(1), or (c)(1) (employment decline or threat of separation) of section 222 has not been met.

TA-W-70,205; Springs Window Fashion, LCC, Grayling, MI.

TA-W-70,404; Century Land and Timber, Inc., Greenville, NC.

TA-W-70,633; Consuelo E. Kelly, DBA Kelly International US, Overland Park, KS.

TA-W-70,673; Anixter, Inc., Anixter Fasteners Division, Danville, IL.

TA-W-71,057; Hall Transport, Clarinda, IA.

TA-W-71,144; Pink Frog Interactive, Inc., Pittsburgh, PA.

The investigation revealed that the criteria under paragraphs (a)(2)(A)(i) (decline in sales or production, or both) and (a)(2)(B) (shift in production or services to a foreign country) of section 222 have not been met.

None.

The investigation revealed that the criteria under paragraphs (a)(2)(A) (increased imports) and (a)(2)(B) (shift in production or services to a foreign country) of section 222 have not been met.

TA-W-70,080; Genmar Minnesota, Inc., A Subsidiary of Genmar Holding, Little Falls, MN.

TA-W-70,326; Ford Motor Company, Dearborn Truck Plant, Dearborn, MI.

TA-W-70,336; Brunswick Bowling and Billiards Corporation, A Subsidiary of Brunswick Corp., Muskegon, MI.

TA-W-71,115; Capital Records, LLC, EMI Music Operations, North America, Jacksonville, IL.

The investigation revealed that the criteria under paragraphs (b)(2) and (b)(3) (public agency acquisition of services from a foreign country) of section 222 have not been met.

None.

The investigation revealed that criteria of Section 222(c)(2) has not been met. The workers' firm (or subdivision) is not a Supplier to or a Downstream Producer for a firm whose workers were certified as eligible to apply for TAA.

None.

I hereby certify that the aforementioned determinations were issued during the period of August 10 through August 21, 2009. Copies of these determinations are available for inspection in Room N-5428, U.S. Department of Labor, 200 Constitution Avenue, NW., Washington, DC 20210 during normal business hours or will be mailed to persons who write to the above address.

Dated: September 16, 2009.
Elliott S. Kushner,
Certifying Officer, Division of Trade Adjustment Assistance.

[FR Doc. E9-22760 Filed 9-21-09; 8:45 am]

BILLING CODE 4510-FN-P